FEDERAL COMMUNICATIONS COMMISSION

47 CFR Part 73

[DA 06-1230; MB Docket No. 05-295; RM-11280]

Radio Broadcasting Services; Cumberland, KY; Glade Spring, Marion, and Weber City, VA

AGENCY: Federal Communications Commission.

ACTION: Proposed rule; denial.

SUMMARY: The staff denied a petition for rulemaking filed by JBL Broadcasting, Inc. to upgrade, reallot, and change the community of license its Station WVEK-FM, from Channel 274A, Cumberland, Kentucky, to Channel 274C3, Weber City, Virginia, because one of the required channel changes to accommodate this proposal is short-spaced in violation of Section 73.207(a) of the Commission's rules. With this action, the proceeding is terminated.

FOR FURTHER INFORMATION CONTACT: Andrew J. Rhodes, Media Bureau, (202) 418-2180.

SUPPLEMENTARY INFORMATION: This is a synopsis of the Commission's Report and Order, MB Docket No. 05-295, adopted June 7, 2006 and released June 9, 2006. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com.

This rulemaking petition was proposed in a Notice of Proposed Rule Making and Order to Show Cause. See 70 FR 70777, November 11, 2005. To accommodate the upgrade and reallotment of Station WVEK-FM to Weber City, it also proposed (1) the substitution of Channel 263A for then vacant Channel 274A at Glade, Spring, VA; and (2) the substitution of Channel 273A for Channel 263A at Marion, VA, and the modification of Station WOLD-FM's license accordingly. The rulemaking petition was denied because the proposed allotment of Channel 273A at Marion, Virginia is 6.6 and 0.6 kilometers short-spaced to two mutually exclusive applications for a new FM station on Channel 273A at Shawsville, Virginia.

This document is not subject to the Congressional Review Act. (The Commission, is, therefore, not required to submit a copy of this Report and Order to GAO, pursuant to the Congressional Review Act, see 5 U.S.C. 801(a)(1)(A) because the proposed rule was denied.)

Federal Communications Commission.
John A. Karousos,
Assistant Chief, Audio Division, Media Bureau.

[FR Doc. E6-10008 Filed 6-27-06; 8:45 am]

BILLING CODE 6712-01-P